DEPARTMENT OF TRANSPORTATION

Federal Aviation Administration

Fourteenth Meeting: RTCA Special Committee 214/EUROCAE WG-78: Standards for Air Traffic Data Communication Services

AGENCY: Federal Aviation Administration (FAA), U.S. Department of Transportation (DOT).

ACTION: RTCA Special Committee 214/EUROCAE WG-78: Standards for Air Traffic Data Communication Services meeting.

SUMMARY: The FAA is issuing this notice to advise the public of a meeting of RTCA Special Committee 214/EUROCAE WG-78: Standards for Air Traffic Data Communication Services.

DATES: The meeting will be held December 5-9, 2011, from 9 a.m. to 5 p.m.

ADDRESSES: The meeting will be held at RTCA, 1150 18th Street, NW., Suite 910, Washington, DC 20036 and Lockheed Martin, 2121 Crystal Drive, Arlington, VA, 22202. If you plan on attending please contact Bonnie Rock at bonnie.rock@lmco.com for required security information.

FOR FURTHER INFORMATION CONTACT: The RTCA Secretariat, 1150 18th Street, NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 214/EUROCAE WG-78: Standards for Air Traffic Data Communication Services. The agenda will include the following:

December 5, 2011

• Open Plenary Session (at RTCA)

• Chairman's Introductory Remarks

• Review of Meeting Agenda

• Review and Approval of 12th and 13th Meeting Minutes

• Review Action Item Status

• Coordination Activities

• Consideration of ISRA with SC-206/WG 76

• Consideration of plan for release of message sets to OPLINK

• Consider Approval of Revision A of DO305/ED154

• Consider Approval of DO-281B/ED-92B

• Review of the work so far:

• SPR & INT documents version I

• Validation activities

• SC-214/WG-78 plan for publication

• Review of Position Papers and Contributions

• Approval of Sub-Group Meeting Objectives

December 6, 2011

• Sub-Group Sessions (at RTCA)

December 7. 2011

• Sub-Group Sessions (at Lockheed Martin)

December 8, 2011

• Plenary Session (at RTCA)

• Configuration Sub-Group Report & Assignment of Action Items

• Validation Sub-Group Report & Assignment of Action Items

• VDL Sub-Group Report & Assignment of Action Items

• Approval to Publish VDL Mode 2 Documents

• Approval for Information Release of SPR and Interops

• Review Dates and Locations of 2012 Plenary and SG Meetings

• Any Other Business

• Adjourn

December 9, 2011

• Sub Group Sessions (RTCA)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 15, 2011.
Kathy Hitt,
Management Analyst, Business Operations Group, Federal Aviation Administration.

[FR Doc. 2011-30075 Filed 11-21-11; 8:45 am]

BILLING CODE 4910-13-P